DEPARTMENT OF COMMERCE

International Trade Administration

[A-570-890]

Wooden Bedroom Furniture From the People's Republic of China: Extension of Time Limit for the Preliminary Results of Antidumping Duty New Shipper Reviews

AGENCY: Import Administration, International Trade Administration, Department of Commerce.

EFFECTIVE DATE: February 28, 2006.

FOR FURTHER INFORMATION CONTACT: Eugene Degnan or Robert Bolling, AD/CVD Operations, Office 8, Import Administration, International Trade Administration, U.S. Department of Commerce, 14th Street and Constitution Avenue, NW., Washington, DC 20230; telephone (202) 482-0414 or (202) 482-3434, respectively.

SUPPLEMENTARY INFORMATION:

Background

On September 8, 2005, the Department of Commerce (“the Department”) published in the Federal Register a notice of initiation of antidumping duty new shipper reviews of wooden bedroom furniture from the People's Republic of China for the period June 24, 2004, through June 30, 2005. See Wooden Bedroom Furniture from the People's Republic of China; Initiation of New Shipper Reviews, 70 FR 53344 (September 8, 2005). The preliminary results of the new shipper reviews are currently due no later than February 26, 2006.

Extension of Time Limit for Preliminary Results

Section 751(a)(2)(B)(iv) of the Tariff Act of 1930, as amended (“the Act”), requires the Department to issue preliminary results within 180 days after the date on which the new shipper reviews were initiated. However, if the Department concludes that the case is extraordinarily complicated, section 751(a)(2)(B)(iv) of the Act allows the Department to extend the 180-day period to a maximum of 300 days.

The Department finds that the complicated nature of this review necessitates an extension of time beyond the 180-day period to complete the preliminary results. There are four distinct new shipper reviews underway for the following entities: Shenyang Kunyu Wood Industry Co., Ltd. (“Kunyu”); Dongguan Landmark Furniture Products Ltd.; Meikangchi (Nantong) Furniture Company Ltd. (“Meikangchi”); and WBE Industries (Hui-Yang) Co., Ltd. Two of the respondents, Kunyu and Meikangchi, are participating pro se, and may require additional assistance pursuant to section 782(c)(2) of the Act. Further, there are significant and complicated issues surrounding the Department's normal value calculation for wooden bedroom furniture, particularly with respect to the valuation of the many factors of production associated with wooden bedroom furniture production. Accordingly, the Department requires additional time to properly analyze the respondents' questionnaire responses, issue multiple supplemental questionnaires, and conduct any appropriate verifications in these new shipper reviews. Therefore, in accordance with section 751(a)(2)(B)(iv) of the Act, the Department is extending the time limit for the preliminary results to these reviews by 120 days, until no later than June 26, 2006.

Dated: February 21, 2006.
Stephen J. Claeys,
Deputy Assistant Secretary for Import Administration.

[FR Doc. E6-2791 Filed 2-27-06; 8:45 am]

(Billing Code: 3510-DS-S)